GULF COAST ECOSYSTEM RESTORATION COUNCIL

[Docket No.: 112072018-1111-04]

Notice of Proposed Subaward Under a Council-Selected Restoration Component Award

AGENCY: Gulf Coast Ecosystem Restoration Council.

ACTION: Notice.

SUMMARY: The Gulf Coast Ecosystem Restoration Council (Council) publishes notice of a proposed subaward from the NOAA Restoration Center, Department of Commerce to Ducks Unlimited, Inc., a nonprofit organization, for the purpose of completing planning, design, and engineering for a hydrologic restoration project located at the Bahia Grande Channel F site in the Laguna Atascosa Wildlife Refuge, Cameron County, Texas. Completion of these activities will provide the NOAA Restoration Center with a full understanding of the construction alternatives at this site, complete with environmental impact and benefits metrics. This subaward is in accordance with the Bahia Grande Wetland System Restoration (planning) Award as approved in the Initial Funded Priority List.

FOR FURTHER INFORMATION CONTACT: Please send questions by email to raams_pgmsupport@restorethegulf.gov, or call Keala J. Hughes at (504) 717-7235.

SUPPLEMENTARY INFORMATION: Section 1321(t)(2)(E)(ii)(III) of the RESTORE Act (33 U.S.C. 1321(t)(2)(E)(ii)(III)) and Treasury's implementing regulation at 31 CFR 34.401(b) require that, for purposes of awards made under the Council-Selected Restoration Component, a State or Federal award recipient may make a grant or subaward to or enter into a cooperative agreement with a nongovernmental entity that equals or exceeds 10 percent of the total amount of the award provided to the State or Federal award recipient only if certain notice requirements are met. Specifically, at least 30 days before the State or Federal award recipient enters into such an agreement, the Council must publish in the Federal Register and deliver to specified Congressional Committees the name of the recipient and subrecipient; a brief description of the activity, including its purpose; and the amount of the award. This notice accomplishes the Federal Register requirement.

Description of Proposed Action

As specified in the Initial Funded Priority List, which is available on the Council's website at https://www.restorethegulf.gov/council-selected-restoration-component/funded-priorities-list, RESTORE Act funds in the amount of $404,318 will support the Bahia Grande Wetland System Restoration (planning) Award to the NOAA Restoration Center. NOAA Restoration Center will provide a subaward in the amount of $313,115.31 to the Ducks Unlimited, Inc. to complete planning, design, and engineering for a hydrologic restoration project located at the Bahia Grande Channel F site in the Laguna Atascosa Wildlife Refuge, Cameron County, Texas.

Keala J. Hughes,
Director of External Affairs & Tribal Relations, Gulf Coast Ecosystem Restoration Council.

[FR Doc. 2018-26901 Filed 12-11-18; 8:45 am]

BILLING CODE 6560-58-P